DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of October and November 2005.

In order for an affirmative determination to be made and a certification of eligibility to apply for directly-impacted (primary) worker adjustment assistance to be issued, each of the group eligibility requirements of section 222(a) of the Act must be met.

I. Section (a)(2)(A) All of the Following Must Be Satisfied

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) Both of the Following Must Be Satisfied

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either:

(A) The workers' firm is a supplier and the component parts it supplied for the firm (or subdivision) described in paragraph (2) accounted for at least 20 percent of the production or sales of the workers' firm; or

(B) A loss or business by the workers' firm with the firm (or subdivision) described in paragraph (2) Contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-58,005; Fairfield Textile Corp., Paterson, NJ

TA-W-58,005A; Fairfield Textile Corp., Paterson, New Jersey, Paterson, NJ

TA-W-58,015; Techneglas, Inc., Columbus, OH

TA-W-58,015A; Techneglas, Inc., Pittston, PA

TA-W-58,139; Kellogg Brown and Root, Inc. (KBR), Workers at International Paper Facility, Mansfield, LA

TA-W-57,887; Parlex Corp., Multi-Layer Business Unit Div., Methuen, MA

TA-W-58,040; Cope Tool and Die, Inc., Traverse City, MI

TA-W-58,043; Intermark Fabric Corp., Plainfield, CT

TA-W-58,159; FDB, Inc., Lincolnton, GA

The investigation revealed that criteria (a)(2)(A)(I.B.) (Sales or production, or both, did not decline) and (a)(2)(B)(II.B) (No shift in production to a foreign country) have not been met.

None

The investigation revealed that criterion (a)(2)(A)(I.A) and (a)(2)(B)(II.A) (no employment decline) have not been met.

TA-W-57,893; Century Technology, Inc., So. San Francisco, CA

TA-W-58,092; Port Augustus Glass/L.E. Smith Glass, Mt. Pleasant, PA

The workers firm does not produce an article as required for certification under section 222 of the Trade Act of 1974.

TA-W-57,968; IBM Corporation, Business Transformation Outsourcing Div., Maumee, OH

TA-W-57,991; MED-Data Inc., Salem, OR

TA-W-58,017; GE Consumer Finance, America's Money Services (Formerly GE Finan. Assur.), Schaumburg, IL

TA-W-58,029; IBM, Business Transformation Outsourcing Div., Maumee, OH

TA-W-58,062; Integreo, Inc., Formerly STI Knowledge, Macon, GA

TA-W-58,063; Sony Electronics, Inc., Customer Service Div., San Diego, CA

TA-W-58,136; Hewlett Packard Co., Storage Area Works Division, Boise, ID

The investigation revealed that criteria (a)(2)(A)(I.C.) (Increased imports) and (a)(2)(B)(II.C) (has shifted production to a foreign country) have not been met.

None

The investigation revealed that criteria (2) has not been met. The workers firm (or subdivision) is not a supplier or downstream producer to trade-affected companies.

None

Affirmative Determinations for Worker Adjustment Assistance

The following certifications have been issued; the date following the company name and location of each determination references the impact date for all workers of such determination.

The following certifications have been issued. The requirements of (a)(2)(A) (increased imports) of Section 222 have been met.

TA-W-57,849 Levi Strauss and Co., Headquarters, San Francisco, CA: August 22, 2005

TA-W-57,849A Levi Strauss and Co., Center of Excellence Div., Weston, FL: August 22, 2005

TA-W-57,992 Radicispandex, Gastonia, NC: September 19, 2004

TA-W-58,000 Drexel Heritage Furniture Industries, Inc., Plant #75, Morganton, NC: September 14, 2004

TA-W-58,003 Alyeska Pipeline Service Company, Anchorage, AK: September 20, 2004

TA-W-58,003A Alyeska Pipeline Service Company, Fairbanks, AK: September 20, 2004

TA-W-58,003B Alyeska Pipeline Service Company, Valdez, AK: September 20, 2004

TA-W-58,010 Holland American Wafer Co., Grand Rapids, MI: September 22, 2004

TA-W-58,011 Cherry Electrical Product, Div. of Cherry Corporation, Pleasant Prairie, WI: September 22, 2004

TA-W-58,032 Ken-Tron Mfg., Inc., Owensboro, KY: September 12, 2004

TA-W-58,033 Semiconductor Industries, LLC, (East Greenwich, RI location), East Greenwich, RI: October 31, 2005

TA-W-58,059 Pomeroy Computer Resources, Working On-Site at R.J. Reynolds Tobacco Co., Macon, GA: October 3, 2004

TA-W-58,084 Draeger Medical, Inc., Telford, PA: October 6, 2004

TA-W-58,091 Beiersporf, Inc., Futuro Manufacturing Div., Mariemont, OH: October 3, 2004

TA-W-58,096 Parker Hannifin Corporation, Powertrain Div., On Site Leased Workers of Time Staffing, Goshen, IN: October 7, 2004

TA-W-58,106 Seiko Optical Products of America, Inc., Pentax Vision Division, Stock Coating Department, Hopkins, MN: October 7, 2004

TA-W-58,108 Southern California Foam, Inc., aka Lazy Pet Products, A Subsidiary of United Pet Group, Hazleton, PA: October 10, 2004

TA-W-58,138; Halmode Apparel, New York, NY: October 6, 2004

TA-W-58,170; International Specialty Products, San Diego, CA: October 11, 2004

TA-W-57,887A; Parlex Corp., Corporate Sales and Administration Subdivision, Methuen, MA: September 2, 2004

The following certifications have been issued. The requirements of (a)(2)(B) (shift in production) of Section 222 have been met.

TA-W-57,887A; Parlex Corp., Corporate Sales and Administration Subdivision, Methuen, MA: September 2, 2004

TA-W-58,041; FoamPro Manufacturing, Inc., Irvine, CA: September 28, 2004

TA-W-58,060; Madison Brands, Inc., New York, NY: September 16, 2004

TA-W-58,077; Friedrich Air Conditions, San Antonio, TX: October 31, 2005

TA-W-58,083; Ach Foam Technologies, LLC, Epsilon Foam Corporation Div., Azusa, CA: October 5, 2004

TA-W-58,099; Wip-X Systems, Inc., Mansfield, GA: October 6, 2004

TA-W-58,124; Victory Plastics International LLC, Haverhill, MA: October 12, 2004

TA-W-58,176; Dixon Ticonderoga Company, Versailles, MO: October 19, 2004

TA-W-58,189; Meridian Automotive Systems, Inc., Canandaigua, NY: October 21, 2004

The following certification has been issued. The requirement of supplier to a trade certified firm has been met.

None

The following certification has been issued. The requirement of downstream producer to a trade certified firm has been met.

None

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

The Department as determined that criterion (2) of section 246 has not been met. Workers at the firm possess skills that are easily transferable.

TA-W-58,096; Parker Hannifin Corporation, Powertrain Div., On Site Leased Workers of Time Staffing, Goshen, IN

The Department has determined that criterion (1) of section 246 has not been met. Workers at the firm are 50 years of age or older.

None

Since the workers are denied eligibility to apply for TAA, the workers cannot be certified eligible for ATAA.

TA-W-57,893; Century Technology, Inc., So. San Francisco, CA

TA-W-57,968; IBM Corporation, Business Transformation Outsourcing Div., Maumee, OH

TA-W-58,092; Port Augustus Glass/L.E. Smith Glass, Mt. Pleasant, PA

TA-W-57,887; Parlex Corp., Multi-Layer Business Unit Div., Methuen, MA

TA-W-58,040; Cope Tool and Die, Inc., Traverse City, MI

TA-W-58,043; Intermark Fabric Corp., Plainfield, CT

TA-W-58,159; FDB, Inc., Lincolnton, GA

TA-W-58,005; Fairfield Textile Corp., Paterson, NJ

TA-W-58,005A; Fairfield Textile Corp., Paterson, NJ

TA-W-58,015; Techneglas, Inc., Columbus, OH

TA-W-58,015A; Techneglas, Inc., Pittston, PA

TA-W-58,139; Kellogg Brown and Root, Inc. (KBR), Workers at International Paper Facility, Mansfield, LA

TA-W-57,991; MED-Data Inc., Salem, OR

TA-W-58,017; GE Consumer Finance, America's Money Services (Formerly GE Finan. Assur.), Schaumburg, IL

TA-W-58,029; IBM, Business Transformation Outsourcing Div., Maumee, OH

TA-W-58,062; Integreo, Inc., Formerly STI Knowledge, Macon, GA

TA-W-58,063; Sony Electronics, Inc., Customer Service Div., San Diego, CA

TA-W-58,136; Hewlett Packard Co., Storage Area Works Division, Boise, ID

TA-W-58,025; Kealey Johnson Wholesale Florist, Abingdon, VA

TA-W-58,136; Hewlett Packard Co., Storage Area Works Division, Boise, ID

TA-W-58,025; Kealey Johnson Wholesale Florist, Abingdon, VA

TA-W-58,116; Commscope, Inc., Scottsboro, AL

TA-W-58,185; General Electric Co., Mebane, NC

TA-W-58,196; Thomas C. Wilson, Inc., Long Island City, NY

The Department has determined that criterion (3) of section 246 has not been met. Competition conditions within the workers' industry are not adverse.

None

Affirmative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-57,849; Levi Strauss and Co., Headquarters, San Francisco, CA: August 22, 2005

TA-W-57,849A; Levi Strauss and Co., Center of Excellence Div., Weston, FL: August 22, 2005

TA-W-58,033; Semiconductor Industries, LLC, (East Greenwich, RI location), East Greenwich, RI: October 31, 2005

TA-W-58,084; Draeger Medical, Inc., Telford, PA: October 6, 2004

TA-W-58,091; Beiersporf, Inc., Futuro Manufacturing Div., Mariemont, OH: October 3, 2004

TA-W-58,106; Seiko Optical Products of America, Inc., Pentax Vision Division, Stock Coating Department, Hopkins, MN: October 7, 2004

TA-W-58,108; Southern California Foam, Inc., aka Lazy Pet Products, A Subsidiary. of United Pet Group, Hazleton, PA: October 10, 2004

TA-W-58,138; Halmode Apparel, New York, NY: October 6, 2004

TA-W-58,170; International Specialty Products, San Diego, CA: October 11, 2004

TA-W-57,992; Radicispandex, Gastonia, NC: September 19, 2004

TA-W-58,000; Drexel Heritage Furniture Industries, Inc., Plant #75, Morganton, NC: September 14, 2004

TA-W-58,010; Holland American Wafer Co., Grand Rapids, MI: September 22, 2004

TA-W-58,011; Cherry Electrical Product, Div. of Cherry Corporation, Pleasant Prairie, WI: September 22, 2004

TA-W-58,032; Ken-Tron Mfg., Inc., Owensboro, KY: September 12, 2004

TA-W-58,059; Pomeroy Computer Resources, Working On-Site at R.J. Reynolds Tobacco Co., Macon, GA: October 3, 2004

TA-W-58,003; Alyeska Pipeline Service Company, Anchorage, AK: September 20, 2004

TA-W-58,003A; Alyeska Pipeline Service Company, Fairbanks, AK: September 20, 2004

TA-W-58,003B; Alyeska Pipeline Service Company, Valdez, AK: September 20, 2004

TA-W-58,083; Ach Foam Technologies, LLC, Epsilon Foam Corporation Div., Azusa, CA: October 5, 2004

TA-W-58,124; Victory Plastics International LLC, Haverhill, MA: October 12, 2004

TA-W-58,176; Dixon Ticonderoga Company, Versailles, MO: October 19, 2004

TA-W-58,189; Meridian Automotive Systems, Inc., Canandaigua, NY: October 21, 2004

TA-W-58,060; Madison Brands, Inc., New York, NY: September 16, 2004

TA-W-58,099; Wip-X Systems, Inc., Mansfield, GA: October 6, 2004

I hereby certify that the aforementioned determinations were issued during the month of October and November 2005. Copies of these determinations are available for inspection in Room C-5311, U.S. Department of Labor, 200 Constitution Avenue, NW., Washington, DC 20210 during normal business hours or will be mailed to persons who write to the above address.

Dated: November 15, 2005.
Erica R. Canton,
Director, Division of Trade Adjustment Assistance.

[FR Doc. E5-6463 Filed 11-22-05; 8:45 am]

BILLING CODE 4510-30-P